FEDERAL COMMUNICATIONS COMMISSION

47 CFR Part 73

[DA 05-1477; MB Docket No. 04-124, RM-10936, RM-10937, RM-10938, RM-10939]

Radio Broadcasting Services; Dallas, OR

AGENCY: Federal Communications Commission.

ACTION: Proposed rule; denial.

SUMMARY: The Audio Division denies Petitions for Rule Making filed separately by Northwest Community Radio Project, Dallas, Oregon Seventh-day Adventist Church, Radio Bilingue, Inc. and Lifetime Ministries, Inc. proposing the reservation of vacant Channel 252C3 at Dallas, Oregon for noncommercial educational. The proposals were denied because the reservation of vacant Channel 252C3 at Dallas, Oregon would not provide a first/second noncommercial educational service to at least ten percent of the total population within the proposed 60 dBu contour. See 69 FR 26353, May 12, 2004.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 04-124, adopted May 25, 2005, and released May 27, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW, Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was denied.)

Federal Communications Commission.
John A. Karousos,
Assistant Chief, Audio Division, Media Bureau.

[FR Doc. 05-11275 Filed 6-7-05; 8:45 am]

BILLING CODE 6712-01-P